DEPARTMENT OF TRANSPORTATION

Surface Transportation Board

[STB Finance Docket No. 34242]

Union Pacific Railroad Company—Trackage Rights Exemption—The Burlington Northern and Santa Fe Railway Company

The Burlington Northern and Santa Fe Railway Company (BNSF) has agreed to grant temporary ¹ overhead trackage rights to Union Pacific Railroad Company (UP) over BNSF's rail lines between BNSF milepost 460.0 near Sweetwater, TX, and BNSF milepost 655.7 near Clovis, NM, a distance of approximately 221.2 miles.²

¹ On August 14, 2002, UP filed a petition for exemption in STB Finance Docket No. 34242 (Sub-No. 1), Union Pacific Railroad Company—Trackage Rights Exemption—The Burlington Northern and Santa Fe Railway Company, wherein UP and BNSF request that the Board permit the proposed temporary overhead trackage rights arrangement described in the present proceeding to expire on or about November 23, 2002. That petition will be addressed by the Board in a separate decision.

² By amendment filed August 20, 2002, a representative of UP points out that there are several changes in milepost sequencing between Sweetwater and Clovis, which is why a substraction of the two boundary mileposts does not yield the stated, and correct, 221.2 miles.

The transaction was scheduled to be consummated on August 22, 2002. The purpose of the temporary trackage rights is to allow UP to bridge its train service over BNSF lines while UP's main lines are out of service due to maintenance.

As a condition to this exemption, any employees affected by the trackage rights will be protected by the conditions imposed in Norfolk and Western Ry. Co.—Trackage Rights-BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34242, must be filed with the Surface Transportation Board, 1925 K Street, NW., Washington, DC 20423-0001. In addition, a copy of each pleading must be served on Robert T. Opal, 1416 Dodge Street, Room 830, Omaha, NE 68179.

Board decisions and notices are available on our website at “www.stb.dot.gov.”

Decided: August 23, 2002.
By the Board, David M. Konschnik, Director, Office of Proceedings.
Vernon A. Williams,
Secretary.

[FR Doc. 02-22110 Filed 8-30-02; 8:45 am]

BILLING CODE 4915-00-P